DEPARTMENT OF ENERGY

Federal Energy Regulatory Commission

[Project No. 13053-000]

Green Wave Energy Solutions, LLC; Notice of Preliminary Permit Applications Accepted for Filing and Soliciting Comment, Motions To Intervene, and Competing Applications

December 9, 2008.

On October 19, 2007, Green Wave Energy Solutions, LLC each filed an application, pursuant to section 4(f) of the Federal Power Act, proposing to study the feasibility of the Green Wave Mendocino Project, to be located on the Pacific Ocean in Mendocino County, California.

The proposed Green Wave Mendocino Project consists of: (1) 10 to 100 Pelamis or OPT devices having a total installed capacity of 100 megawatts, (2) a proposed 2- to 3-mile-long, 36 kilovolt transmission line, and (3) appurtenant facilities. The project is estimated to have an average annual generation of 250 gigawatt-hours, which would be sold to a local utility.

Applicant Contact: Mr. Wayne L. Burkamp, GreenWave Energy Solutions, LLC is: 1014 S. Westlake Blvd., Suite 14, PMB 138, Westlake Village, CA 91361, phone (510) 654-7388.

FERC Contact: Robert Bell, (202) 502-6062.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's website under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13053) in the docket number field to access the document. For assistance, call toll-free 1-866-208-3372.

Kimberly D. Bose,
Secretary.

[FR Doc. E8-29856 Filed 12-16-08; 8:45 am]

BILLING CODE 6717-01-P